ENVIRONMENTAL PROTECTION AGENCY

40 CFR Parts 85, 86, and 600

DEPARTMENT OF TRANSPORTATION

National Highway Traffic Safety Administration

49 CFR Part 575

[EPA-HQ-OAR-2009-0865; FRL-9208-1; NHTSA-2010-0087]

RIN 2060-AQ09; RIN 2127-AK73

Public Hearing Locations for the Proposed Fuel Economy Labels

AGENCY: Environmental Protection Agency (EPA).

ACTION: Notice of public hearings.

SUMMARY: EPA and NHTSA are announcing the location addresses for the public hearings to be held for “Revisions and Additions to Motor Vehicle Fuel Economy Label,” published in the Federal Register on September 23, 2010. The goal of a revised label will be to provide consumers with simple, straightforward comparisons across all vehicles types, including electric vehicles (EV), plug-in hybrid electric vehicles (PHEV), and conventional gasoline and diesel vehicles. NHTSA and EPA are proposing these changes in compliance with the Energy Independence and Security Act (EISA) of 2007, which imposes several new labeling requirements. Also, the agencies believe that the current labels can be improved to help consumers make more informed vehicle purchase decisions and to address the entrance of advanced technology vehicles into the U.S. market. The new labels are proposed to be displayed on new vehicles beginning with the 2012 model year.

DATES: NHTSA and EPA will jointly hold two public hearings on the following dates: Thursday, October 14, 2010, in Chicago, Illinois, and Thursday, October 21, 2010, in Los Angeles, California. The hearing sessions will be from 12 p.m. to 4 p.m. and 6 p.m. to 10 p.m. local time and continue until everyone has had a chance to speak. Note that the times have changed from those indicated in the proposed rule.

ADDRESSES: NHTSA and EPA will jointly hold two public hearings at the following locations: Wyndham Hotel, 633 North St. Clair St., Chicago, Illinois 60611 on Thursday, October 14, 2010; and Sheraton Los Angeles Downtown Hotel, 711 South Hope Street, Los Angeles, California 90017 on Thursday, October 21, 2010.

FOR FURTHER INFORMATION CONTACT: EPA: Lucie Audette, Office of Transportation and Air Quality, Assessment and Standards Division, Environmental Protection Agency, 2000 Traverwood Drive, Ann Arbor, MI 48105; telephone number: 734-214-4850; fax number: 734-214-4816; e-mail address: audette.lucie@epa.gov, or Assessment and Standards Division Hotline; telephone number (734) 214-4636; e-mail address: asdinfo@epa.gov. NHTSA: Gregory Powell, National Highway Traffic Safety Administration, 1200 New Jersey Avenue, SE., Washington, DC 20590. Telephone: (202) 366-5206; Fax: (202) 493-2990; e-mail address: gregory.powell@dot.gov.

SUPPLEMENTARY INFORMATION: The purpose of the public hearings is to obtain public testimony or comment on the Agency's proposed revisions and additions to the motor vehicle fuel economy label.¹ If you would like to present testimony at the public hearings, we ask that you notify the EPA and NHTSA contact persons listed under FOR FURTHER INFORMATION CONTACT at least ten days before the hearing. Once EPA and NHTSA learn how many people have registered to speak at the public hearing, we will allocate an appropriate amount of time to each participant, allowing time for necessary breaks throughout the hearing. For planning purposes, each speaker should anticipate speaking for approximately ten minutes, although we may need to adjust the time for each speaker if there is a large turnout. We suggest that you bring copies of your statement or other material for the EPA and NHTSA panels and the audience. It would also be helpful if you send us a copy of your statement or other materials before the hearing. To accommodate as many speakers as possible, we prefer that speakers not use technological aids (e.g., audio-visuals, computer slideshows). However, if you plan to do so, you must notify the contact persons in the FOR FURTHER INFORMATION CONTACT section above. You also must make arrangements to provide your presentation or any other aids to NHTSA and EPA in advance of the hearing in order to facilitate set-up. In addition, we will reserve a block of time for anyone else in the audience who wants to give testimony.

¹ FR-9197-3; EPA-HQ-OAR-2009-0865; NHTSA-2010-0087.

The hearing will be held at a site accessible to individuals with disabilities. Individuals who require accommodations such as sign language interpreters should contact the persons listed under FOR FURTHER INFORMATION CONTACT section above no later than ten days before the date of the hearing.

NHTSA and EPA will conduct the hearing informally, and technical rules of evidence will not apply. We will arrange for a written transcript of the hearing and keep the official record of the hearing open for 30 days to allow you to submit supplementary information. You may make arrangements for copies of the transcript directly with the court reporter.

Dated: September 24, 2010.
Lori Stewart,
Acting Director, Office of Transportation and Air Quality, Environmental Protection Agency.
Dated: September 23, 2010.
Joseph S. Carra,
Acting Associate Administrator, Office of Rulemaking, National Highway Traffic Safety Administration, Department of Transportation.

[FR Doc. 2010-24409 Filed 9-27-10; 8:45 am]

BILLING CODE 6560-50-P